DEPARTMENT OF TRANSPORTATION

Federal Aviation Administration

Notice of Intent of Waiver with Respect to Land; Dayton-Wright Brothers Airport, Dayton, OH

AGENCY: Federal Aviation Administration (FAA), DOT.

ACTION: Notice.

SUMMARY: The FAA is considering a proposal to change 5 acres of airport land from aeronautical use to non-aeronautical use and to authorize the lease of airport property located at Dayton-Wright Brother Airport, Dayton, OH. The aforementioned land is not needed for aeronautical use. The subject property is vacant land located on the southeast corner of North Springboro Pike and Austin Boulevard. The property is proposed to be leased to an existing airport tenant for the non-aeronautical expansion of an office complex.

DATES: Comments must be received on or before December 8, 2021.

ADDRESSES: Documents are available for review by appointment at the FAA Detroit Airports District Office, Alex Erskine, Program Manager, 11677 South Wayne Road, Suite 107, Romulus, MI 48174. Telephone: (734) 229-2927/Fax: (734) 229-2950 and City of Dayton Department of Aviation Offices, 3600 Terminal Drive, Suite 300, Vandalia OH, Mr. Gilbert Turner. Telephone: (937) 454-8202.

Written comments on the Sponsor's request must be delivered or mailed to: Alex Erskine, Program Manager, Federal Aviation Administration, Detroit Airports District Office, 11677 South Wayne Road, Suite 107, Romulus, MI 48174, Telephone Number: (734) 229-2927/FAX Number: (734) 229-2950.

FOR FURTHER INFORMATION CONTACT: Alex Erskine, Program Manager, Federal Aviation Administration, Detroit Airports District Office, 11677 South Wayne Road, Suite 107, Romulus, MI 48174. Telephone Number: (734) 229-2927/FAX Number: (734) 229-2950.

SUPPLEMENTARY INFORMATION: In accordance with section 47107(h) of Title 49, United States Code, this notice is required to be published in the Federal Register 30 days before modifying the land-use assurance that requires the property to be used for an aeronautical purpose.

The property is currently vacant land that is located on airport Parcel 1. Parcel 1 is part of the original 344.85-acre airport site. The airport has received five Airport Development Aid Program (ADAP) grants and one Airport Improvement Program (AIP) grant (3-39-0030-001-1982) that each included partial land reimbursement for the original 344.85-acre airport site. The proposed land use of the 5-acre site is for the non-aeronautical expansion of an existing airport tenant's business operations. The tenant plans to immediately construct a two-story architecturally unique office building with approximately 40 parking spaces on the western most 1.146 acres of the 5-acre site. The tenant anticipates additional future non-aeronautical expansion on the remaining 3.854 acres at a later date that will be compatible with airport operations. The airport will receive Fair Market Value lease rates for this land lease.

The disposition of proceeds from the lease of the airport property will be in accordance with FAA's Policy and Procedures Concerning the Use of Airport Revenue, published in the Federal Register on February 16, 1999 (64 FR 7696).

This notice announces that the FAA is considering the release of the subject airport property at the Dayton-Wright Brothers Airport, Dayton, OH from its obligations to be maintained for aeronautical purposes. Approval does not constitute a commitment by the FAA to financially assist in the change in use of the subject airport property nor a determination of eligibility for grant-in-aid funding from the FAA.

Lease Discription of 1.146 Acres

Situated in the State of Ohio, County of Montgomery, Township of Miami, Section 10, Township 2, Range 5 M.Rs., being 1.146 acres of that 57.72 acre tract described as Parcel II in a deed to the City of Dayton, Ohio, of record in Deed Microfiche 74-23D06, all references herein being to the records of the Recorder's Office, Montgomery County, Ohio, and being more particularly described as follows: Beginning FOR REFERENCE at a 1” rebar found in a monument box at the centerline intersection of State Route 741 (Springboro Pike) and Austin Boulevard (County Road 166); thence South 88°30′19″ East, along the centerline of Austin Boulevard, a distance of 542.98 feet to a point; thence South 01°29′41″ West, a distance of 107.52 feet to a point in the southerly limited access right of way line of Austin Boulevard at the northeasterly corner of a 7.556 acre lease parcel described in a deed to The Conner Group, of record in Instrument No. 2020-00035418 and the TRUE PLACE OF BEGINNING;

Thence North 84°42′39″ East, along said southerly limited access right of way line, a distance of 127.83 feet to a point; Thence though said 57.72 acre tract the following courses: 1. South 01°29′39″ West, a distance of 360.42 feet to a point; 2. North 88°50′45″ West, a distance of 59.20 feet to a point of curvature; 3. With the arc of a curve to the left having a radius of 149.07 feet, a central angle of 39°05′21″, an arc length of 101.70 feet, the chord of which bears South 71°36′34″ West, a chord distance of 99.74 feet to a point in the easterly perimeter of said lease parcel (7.556 acres); Thence North 05°25′20″ East, along said easterly perimeter, a distance of 380.48 feet to the TRUE PLACE OF BEGINNING and containing 1.146 acres of land.

Lease Description of 3.854 Acres

Situated in the State of Ohio, County of Montgomery, Township of Miami, Section 10, Township 2, Range 5 M.Rs., being 3.854 acres of that 57.72 acre tract described as Parcel II in a deed to the City of Dayton, Ohio, of record In Deed Microfiche 74-23D06, all references herein being to the records of the Recorder's Office, Montgomery County, Ohio, and being more particularly described as follows:

Beginning FOR REFERENCE at a 1″ rebar found in a monument box at the centerline intersection of State Route 741 (Springboro Pike) and Austin Boulevard (County Road 166); thence South 88°30′19″ East, along the centerline of Austin Boulevard, a distance of 542.98 feet to a point; thence South 01°29′41″ West, a distance of 107.52 feet to a point in the southerly limited access right of way line of Austin Boulevard at the northeasterly corner of a 7.556 acre lease parcel described in a deed to The Conner Group, of record in Instrument No. 2020-00035418; thence North 84°42′39″ East, along said southerly right of way line, a distance of 127.83 feet to an iron pin found at a angle point in said right of way line and the TRUE PLACE OF BEGINNING;

Thence South 88°30′19″ East, continuing along said southerly limited access right of way line and the unrestricted access southerly right of way line of Austin Boulevard, a distance of 466.59 feet to a point; Thence though said 57.72 acre tract the following courses: (1) South 01°09′15″ West, a distance of 357.64 feet to a point; (2) North 88°50′45″ West, a distance of 468.72 feet to a point; 3. North 01°29′39″ East, a distance of 360.42 feet to the TRUE PLACE OF BEGINNING and containing 3.854 acres of land.

Issued in Romulus, Michigan, on November 2, 2021.
Stephanie Swann,
Acting Manager, Detroit Airports District Office, FAA, Great Lakes Region.

[FR Doc. 2021-24319 Filed 11-5-21; 8:45 am]

BILLING CODE 4910-13-P